DEPARTMENT OF ENERGY

Federal Energy Regulatory Commission

Combined Notice of Filings #2

Take notice that the Commission received the following electric rate filings:

Docket Numbers: ER10-2488-018.

Applicants: Oasis Power Partners, LLC.

Description: Notice of Non-Material Change in Status of Oasis Power Partners, LLC.

Filed Date: 10/30/19.

Accession Number: 20191030-5136.

Comments Due: 5 p.m. ET 11/20/19.

Docket Numbers: ER20-234-000.

Applicants: Public Service Company of New Mexico.

Description: § 205(d) Rate Filing: Amended and Restated TCIA with Western Spirit Transmission LLC to be effective 10/31/2019.

Filed Date: 10/30/19.

Accession Number: 20191030-5133.

Comments Due: 5 p.m. ET 11/20/19.

Docket Numbers: ER20-235-000.

Applicants: Public Service Company of New Mexico.

Description: Initial rate filing: EPC between PNM and Pattern NM Wind LLC to be effective 10/14/2019.

Filed Date: 10/30/19.

Accession Number: 20191030-5134.

Comments Due: 5 p.m. ET 11/20/19.

Docket Numbers: ER20-236-000.

Applicants: Tucson Electric Power Company.

Description: § 205(d) Rate Filing: Sunzia Transmission Interconnection Agreement to be effective 12/30/2019.

Filed Date: 10/30/19.

Accession Number: 20191030-5158.

Comments Due: 5 p.m. ET 11/20/19.

Docket Numbers: ER20-237-000.

Applicants: Pacific Gas and Electric Company.

Description: § 205(d) Rate Filing: Q3 2019 Quarterly Filing of City and County of San Francisco's WDT SA (SA 275) to be effective 9/30/2019.

Filed Date: 10/30/19.

Accession Number: 20191030-5160.

Comments Due: 5 p.m. ET 11/20/19.

Docket Numbers: ER20-238-000.

Applicants: PJM Interconnection, L.L.C.

Description: § 205(d) Rate Filing: Original WMPA SA No. 5495; Queue No. AE1-124 to be effective 9/30/2019.

Filed Date: 10/30/19.

Accession Number: 20191030-5166.

Comments Due: 5 p.m. ET 11/20/19.

Docket Numbers: ER20-239-000.

Applicants: PJM Interconnection, L.L.C.

Description: § 205(d) Rate Filing: ISA #4413(amend), 5298, 5299; ICSA #4422(amend), 5368, 5369; Queue #T131/AC1-173 to be effective 2/18/2016.

Filed Date: 10/30/19.

Accession Number: 20191030-5184.

Comments Due: 5 p.m. ET 11/20/19.

Docket Numbers: ER20-240-000.

Applicants: Hattiesburg Farm, LLC.

Description: § 205(d) Rate Filing: Notice of Non-Material Change in Status & SE Category Seller Change to be effective 10/31/2019.

Filed Date: 10/30/19.

Accession Number: 20191030-5187.

Comments Due: 5 p.m. ET 11/20/19.

Docket Numbers: ER20-241-000.

Applicants: Simon Solar Farm LLC.

Description: § 205(d) Rate Filing: Notice of Non-Material Change in Status & SE Category Seller Change to be effective 10/31/2019.

Filed Date: 10/30/19.

Accession Number: 20191030-5193.

Comments Due: 5 p.m. ET 11/20/19.

Docket Numbers: ER20-242-000.

Applicants: Sunshine Valley Solar, LLC.

Description: Baseline eTariff Filing: MBR Application to be effective 10/31/2019.

Filed Date: 10/30/19.

Accession Number: 20191030-5197.

Comments Due: 5 p.m. ET 11/20/19.

Docket Numbers: ER20-243-000.

Applicants: SR Millington, LLC.

Description: § 205(d) Rate Filing: Notice of Non-Material Change in Status & SE Category Seller Change to be effective 10/31/2019.

Filed Date: 10/30/19.

Accession Number: 20191030-5199.

Comments Due: 5 p.m. ET 11/20/19.

Take notice that the Commission received the following qualifying facility filings:

Docket Numbers: QF20-170-000.

Applicants: Eco Green Generation LLC.

Description: Form 556 of Eco Green Generation LLC [Clean Power #6].

Filed Date: 10/30/19.

Accession Number: 20191030-5135.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2019.
Nathaniel J. Davis, Sr.,
Deputy Secretary.

[FR Doc. 2019-24165 Filed 11-5-19; 8:45 am]

BILLING CODE 6717-01-P